NATIONAL AERONAUTICS AND SPACE ADMINISTRATION

[Notice (07-010)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: February 22, 2007.

FOR FURTHER INFORMATION CONTACT: Kent N. Stone, Patent Counsel, Glenn Research Center at Lewis Field, Code 500-118, Cleveland, OH 44135; telephone (216) 433-8855; fax (216) 433-6790.

NASA Case No. LEW-17642-4: Energetic Atomic and Ionic Oxygen Textured Optical Surfaces for Blood Glucose Monitoring;

NASA Case No. LEW-17975-1: Protective Coating and Hyperthermal Atomic Oxygen Texturing of Optical Fibers Used for Blood Glucose Monitoring;

NASA Case No. LEW-17877-1: Antenna Near-Field Probe Station Scanner;

NASA Case No. LEW-17825-1: Zero G Condensing Heat Exchanger With Integral Disinfection;

NASA Case No. LEW-17306-2: Thin Film Heat Flux Sensor of Improved Design Utilizing a Resistance Bridge;

NASA Case No. LEW-18042-1: Process for Preparing Polymer Reinforced Silica Aerogels.

Dated: February 9, 2007.
Keith T. Sefton,
Deputy General Counsel, Administration and Management.

[FR Doc. E7-2919 Filed 2-21-07; 8:45 am]

BILLING CODE 7510-13-P